POSTAL SERVICE

39 CFR Part 111

Customs Forms for Priority Mail To or From “969” ZIP Codes and 96799

AGENCY: Postal Service.

ACTION: Final rule.

SUMMARY: The Postal Service™ is revising the Mailing Standards of the United States Postal Service, Domestic Mail Manual to require customs declarations on certain Priority Mail® mailpieces to or from ZIP Code™ 96799 and ZIP Codes™ beginning with the prefix 969.

EFFECTIVE DATE: June 8, 2007.

FOR FURTHER INFORMATION CONTACT: Obataiye B. Akinwole, 202-268-7262.

SUPPLEMENTARY INFORMATION: In January 2003, the Postal Service published a Postal Bulletin article asking customers to affix either PS Form 2976, Customs Declaration CN22—Sender's Declaration, or PS Form 2976-A, Customs Declaration and Dispatch Note—CP72, to all mailpieces weighing 16 ounces or more addressed to Guam. In March 2003, we revised our request to include mailpieces addressed to all ZIP Codes beginning with the 969 ZIP Code prefix. On September 13, 2006, we published a Proposed rule in the Federal Register, (71 FR 54006), to require customs declarations on certain Priority Mail mailpieces to or from ZIP Codes™ beginning with the prefix 969. We are now requiring that the appropriate customs form be affixed to all Priority Mail pieces weighing 16 ounces or more sent to or from ZIP Codes beginning with the prefix 969. We are also expanding the requirement to affix the appropriate customs form to all Priority Mail pieces weighing 16 ounces or more that are sent to or from ZIP Code 96799, American Samoa.

We are also removing the language regarding “dutiable merchandise” from this final rule. The language is ambiguous at best and does not address a specific concern.

Comments

Interested persons were invited to comment on the proposed rule. One comment was received. The commenter questioned the underlying rationale for the new rule. In response, these destinations are outside the customs territory of the United States. Hence, a customs form would facilitate the identification of the contents of the mail to the extent customs inspections may be applied to this traffic. In addition, use of a customs form would enable the Postal Service to meet requirements imposed by airlines to carry Priority Mail above a certain weight threshold. Such requirements are not imposed by surface transportation carriers, and are not needed for other classes of mail carried by air carriers.

After reviewing and considering the comments, we adopt the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Revise the Mailing Standards of the United States Postal Service, Domestic Mail Manual (DMM), as follows:

600 Basic Standards for All Mailing Services

* * * * *

608 Postal Information and Resources

* * * * *

2.0 Domestic Mail

* * * * *

[Add new 2.4 as follows:]

2.4 Customs Forms Required

Regardless of contents, all Priority Mail weighing 16 ounces or more sent from the United States to a ZIP Code beginning with the prefix 969 and ZIP Code 96799, and all Priority Mail sent from a ZIP Code beginning with the prefix 969 and ZIP Code 96799 to the United States, must bear either Form 2976 or Form 2976-A. This mail must be presented to an employee at a post office, to a letter carrier when using Click-N-Ship with Carrier Pickup, or to a Postal Service employee designated by the postmaster.

* * * * *

Neva R. Watson,
Attorney, Legislative.

[FR Doc. E7-11069 Filed 6-7-07; 8:45 am]

BILLING CODE 7710-12-P